DEPARTMENT OF THE INTERIOR

Fish and Wildlife Service

50 CFR Part 17

RIN 1018-AI25

Endangered and Threatened Wildlife and Plants; Determinations of Prudency for Two Mammal and Four Bird Species in Guam and the Commonwealth of the Northern Mariana Islands and Designations of Critical Habitat for One Mammal and Two Bird Species

AGENCY: Fish and Wildlife Service, Interior.

ACTION: Proposed rule; reopening of comment period.

SUMMARY: We, the U.S. Fish and Wildlife Service, announce the reopening of the public comment period for the proposed rule to designate critical habitat for the Mariana fruit bat and the Guam Micronesian kingfisher on Guam, and the Mariana crow on Guam and Rota and associated draft economic analysis. The proposed designations of critical habitat were published in the Federal Register on October 15, 2002. The extension of the comment period and notice of availability of the draft economic analysis were published in the Federal Register on December 5, 2002. On December 8, 2002, Guam and Rota sustained extensive damage from Super Typhoon Pongsona and were federally declared disaster areas. The extended comment period ended on January 6, 2003; therefore, we are reopening the comment period to allow additional time for all interested parties to consider the information and submit written comments on the proposal and associated draft economic analysis. Comments previously submitted need not be resubmitted as they will be incorporated into the public record and will be fully considered in preparation of the final rule.

DATES: We will accept public comments until February 18, 2003.

ADDRESSES: Written comments and information should be submitted to Field Supervisor, U.S. Fish and Wildlife Service, Pacific Islands Office, 300 Ala Moana Blvd., PO Box 50088, Honolulu, HI 96850-0001. Copies of the draft economic analysis are available on the Internet at http://pacificislands.fws.gov or by request from the Field Supervisor at the above address and telephone 808/541-3441. Copies of the draft economic analysis also are available on Guam at the Belt Collins Guam Office, GCIC Building, 414 West Soledad Avenue, Hagatna, Guam, phone 671/477-6148, and on Rota at the Northern Marianas College, Tatachog Campus, Rota, telephone 670/532-9477. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

On October 15, 2002 (67 FR 63738), we proposed designating approximately 10,053 hectares (ha) (24,840 acres (ac)) in two units on the island of Guam for the Mariana fruit bat (Pteropus mariannus mariannus) and the Guam Micronesian kingfisher (Halcyon cinnamomina cinnamomina) (67 FR 63738). For the Mariana crow (Corvus kubaryi), we proposed designating approximately 9,325 ha (23,042 ac) in two units on the island of Guam and approximately 2,462 ha (6,084 ac) in one unit on the island of Rota in the CNMI. On Guam, the boundaries of the proposed critical habitat units for the Mariana fruit bat and Guam Micronesian kingfisher are identical and the boundaries of the proposed critical habitat for the Mariana crow are contained within these identical boundaries. On Rota, critical habitat is proposed only for the Mariana crow.

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. A draft economic analysis of the proposed critical habitat designation was prepared and a notice of availability was published in the Federal Register on December 5, 2002 (67 FR 72407); with a request for public comment on both the proposed rule and economic analysis by January 6, 2003. The draft economic analysis shows that over a 10-year period, the estimated total direct cost on Guam would be approximately $1.4 million and the estimated total direct cost on Rota would be approximately $149,000. The draft economic analysis is available on the Internet and from the mailing address in the Public Comments Solicited section below.

Public Comments Solicited

We are now announcing the reopening of the comment period for the proposed designation of critical habitat for the Mariana fruit bat and the Guam Micronesian kingfisher on Guam, and the Mariana crow on Guam and Rota and associated draft economic analysis. On December 8, 2002, Guam and Rota sustained extensive damage from Super Typhoon Pongsona and were declared Federal disaster areas. We are reopening the comment period until the date specified in DATES. The reopening of the comment period gives additional time for all interested parties to consider the information and submit written comments on the proposal and the associated draft economic analysis.

We will accept written comments and information during this reopened comment period. If you wish to comment, you may submit your comments and materials concerning this proposal by any of several methods:

(1) You may submit written comments and information to the Field Supervisor, U.S. Fish and Wildlife Service, Pacific Islands Fish and Wildlife Office, 300 Ala Moana Blvd., PO Box 50088, Honolulu, HI 96850-0001.

(2) You may send comments by electronic mail (e-mail) to: Guam_crithab@r1.fws.gov. If you submit comments by e-mail, please submit them as an ASCII file and avoid the use of special characters and any form of encryption. Please also include “Attn: RIN 1018-AI25” and your name and return address in your e-mail message.

(3) You may hand-deliver comments to our Honolulu Fish and Wildlife Office at the address given above.

Comments and materials received, as well as supporting documentation used in preparation of the proposal to designate critical habitat, will be available for inspection, by appointment, during normal business hours at the address under (1) above. Copies of the draft economic analysis are available on the Internet at http://pacificislands.fws.gov or by request from the Field Supervisor at the address under ADDRESSES and phone number under FOR FURTHER INFORMATION CONTACT above.

Author(s)

The primary author of this notice is Fred Amidon (see ADDRESSES).

Authority

The authority for this action is the Endangered Species Act of 1973 (16 U.S.C. 1531 et seq.).

Dated: January 15, 2003.
Paul Hoffman,
Acting Assistant Secretary for Fish and Wildlife and Parks.

[FR Doc. 03-1799 Filed 1-27-03; 8:45 am]

BILLING CODE 4310-55-P